DEPARTMENT OF TRANSPORTATION

Federal Aviation Administration

Twelfth Meeting: RTCA Special Committee 214: Working Group 78: Standards for Air Traffic Data Communication Services

AGENCY: Federal Aviation Administration (FAA), DOT.

ACTION: Notice of RTCA Special Committee 214: Working Group 78: Standards for Air Traffic Data Communication Services.

SUMMARY: The FAA is issuing this notice to advise the public of a meeting of the RTCA Special Committee 214: Working Group 78: Standards for Air Traffic Data Communication Services.

DATES: The meeting will be held April 11-15, 2011 from 9 a.m.-5 p.m.

ADDRESSES: The meeting will be held at the Federal Ministry of Transport, Building and Urban Development, Invalidenstrasse 44-10115 Berlin, Germany. Confirm attendance with danny.van-roosbroek@eurocontrol.int, hartmut.villwock@dfs.de, and copy to eurocae@eurocae.net.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a RTCA Special Committee 214: Working Group 78: Standards for Air Traffic Data Communication Services meeting. The agenda will include:

Additional Information

Additional information and all the documents to be considered can be found in the Web site http://www.faa.gov/go/SC214.

Meeting Objectives

• Complete definition of Baseline 2 content

• Review planning and content of SPR and INT drafts version 0.H and 0.I

• Progress the validation report

• Consolidate approach for Oceanic/Continental Integration

• Approve release of VDL Mode 2 documents for Final Review and Comment (RTCA)

• Review of Position Papers

• Review the work plan; and Plenary/Subgroup meetings plan for 2011

Agenda

Day 1, Monday, April 11, 2011

9-12:30 Plenary Session

• Welcome/Introductions/Administrative Remarks

• Approval of the Agenda

• Approval of the Minutes of Plenary 11

• Review Action Item Status

• Coordination Activities

• Briefing from other SCs and WGs

• Briefing from recent ICAO NAT and OPLINK meetings

• Status Publication DO306/ED122 Change 1

• Review of Work so far

• SPR & INT documents version H and I

• SC-214/WG-78 TORs and Work Plan

• Review of Position Papers and Contributions

13:30-17:00: Plenary Session

• Continuation Review of Position Papers and Contributions

• Approval of Sub-Group Meeting Objectives

Day 2, Tuesday, April 12, 2011 9:00-17:00 Sub-Group Sessions

Day 3, Wednesday, April 13, 2011 9:00-17:00 Sub-Group Sessions

Day 4, Thursday, April 14, 2011 9:00-17:00 Plenary Session

• Configuration Sub-group Report & Assignment of Action Items

• Validation Sub-group Report & Assignment of Action Items

• VDL Sub-group Report & Assignment of Action Items

• Approval to release VDL Mode 2 Documents for Final Review and Comment (RTCA)

• Review Dates and Locations 2011 Plenary and SG Meetings

• Any Other Business

• Adjourn

Day 5, Friday, April 15, 2010 Sub-Group Sessions 9:00-16:00

• 9:00-16:00 Sub-Group Sessions

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on, March 24, 2011.
Robert L. Bostiga,
RTCA Advisory Committee.

[FR Doc. 2011-7428 Filed 3-28-11; 8:45 am]

BILLING CODE 4910-13-P